DEPARTMENT OF THE INTERIOR

Bureau of Land Management

[LLNV05600.L14300000.EU0000.LVTFF1000770.241A00; N-76649; 12-08807; TAS: 14X5232]

Correction for Conveyance of Public Lands for Recreation and Public Purposes in Clark County, NV

AGENCY: Bureau of Land Management, Interior.

ACTION: Notice of Realty Action.

SUMMARY: This Notice corrects a Notice of Realty Action published in the Federal Register on April 26, 2004, (69 FR22547-22548), which listed an incorrect legal land description for the South Hills Church Community in the City of Las Vegas, Clark County, Nevada.

FOR FURTHER INFORMATION CONTACT: Shawna Woods, (702) 515-5099, or email: swoods@blm.gov. Persons who use a telecommunications device for the deaf (TDD) may call the Federal Information Relay Service (FIRS) at 1-(800) 877-8339 to contact the above individual during normal business hours. The FIRS is available 24 hours a day, 7 days a week, to leave a message or question with the above individual. You will receive a reply during normal business hours.

SUPPLEMENTARY INFORMATION: The erroneous legal land description is on page 22547, 3rd column, line 6. The legal land description is corrected to read:

Mount Diablo Meridian

T. 22 S., R. 61 E.,

Sec. 24, N½SW¼SE¼NE¼, N½SE¼SE¼NE¼.

The area described contains 10 acres, more or less in Clark County, Nevada.

Authority: 43 CFR 2741.5.

Vanessa L. Hice,
Assistant Field Manager, Las Vegas Field Office.

[FR Doc. 2011-33809 Filed 1-4-12; 8:45 am]

BILLING CODE 4310-HC-P